DEPARTMENT OF ENERGY

Environmental Management Site-Specific Advisory Board, Idaho Cleanup Project

AGENCY: Office of Environmental Management, Department of Energy.

ACTION: Notice of open virtual meeting.

SUMMARY: This notice announces an online virtual meeting of the Environmental Management Site-Specific Advisory Board (EM SSAB), Idaho Cleanup Project (ICP). The Federal Advisory Committee Act requires that public notice of this online virtual meeting be announced in the Federal Register.

DATES: Thursday, January 28, 2021; 8:00 a.m.-2:30 p.m.

The opportunities for public comment are at 10:00 a.m. and 1:15 p.m. MT.

This time is subject to change; please contact the Federal Coordinator (below) for confirmation of times prior to the meeting.

ADDRESSES: This meeting will be held virtually via Zoom. To attend, please contact Jordan Davies, ICP Citizens Advisory Board (CAB) support staff, by email jdavies@northwindgrp.com or phone (720) 452-7379, no later than 5:00 p.m. MT on Tuesday, January 26, 2021.

To Sign Up for Public Comment: Please contact Jordan Davies by email, jdavies@northwindgrp.com, no later than 5:00 p.m. MT on Tuesday, January 26, 2021.

FOR FURTHER INFORMATION CONTACT: Danielle Miller, Federal Coordinator, U.S. Department of Energy, Idaho Operations Office, 1955 Fremont Avenue, MS-1203, Idaho Falls, Idaho 83415. Phone (208) 526-5709; or email: millerdc@id.doe.gov or visit the Board's internet home page at: https://www.energy.gov/em/icpcab/.

SUPPLEMENTARY INFORMATION: Purpose of the Board: The purpose of the Board is to make recommendations to DOE-EM and site management in the areas of environmental restoration, waste management, and related activities.

Tentative Topics (agenda topics may change up to the day of the meeting; please contact Danielle Miller for the most current agenda):

• Recent Public Outreach

• ICP Overview, including Updates on Integrated Waste Treatment Unit (IWTU) and Site Reconstitution

• New Idaho Comprehensive Environmental Response, Compensation, and Liability Act (CERCLA) Disposal Facility Cell

• CERCLA Five-year Review

• Fiscal Year 2022 Budget

• Fiscal Year 2023 Budget Priorities

• Budget Recommendation Discussion

Public Participation: The online virtual meeting is open to the public. Written statements may be filed with the Board either before or within seven days after the meeting by sending them to Jordan Davies at the aforementioned email address. The Deputy Designated Federal Officer is empowered to conduct the meeting in a fashion that will facilitate the orderly conduct of business. Individuals wishing to make public comments will be provided a maximum of five minutes to present their comments.

Minutes: Minutes will be available by writing or calling Danielle Miller, Federal Coordinator, at the address and telephone number listed above. Minutes will also be available at the following website: https://www.energy.gov/em/icpcab/listings/cab-meetings.

Signed in Washington, DC on January 5, 2021.
LaTanya Butler,
Deputy Committee Management Officer.

[FR Doc. 2021-00156 Filed 1-7-21; 8:45 am]

BILLING CODE 6450-01-P